DEPARTMENT OF COMMERCE

National Oceanic and Atmospheric Administration

Notice of Availability of a Revised Draft Programmatic Environmental Assessment (PEA) for U.S. Integrated Ocean Observing System (IOOS®) Projects

AGENCY: National Ocean Service, National Oceanic and Atmospheric Administration (NOAA), Department of Commerce.

ACTION: Request for comments.

SUMMARY: NOAA is hereby requesting comments on the IOOS Revised Draft PEA.

DATES: Dates and Times: The Revised Draft PEA is available for public review and comment through March 15, 2016.

ADDRESSES: The Revised Draft PEA is available online at www.ioos.noaa.gov/about/governance/environmental_compliance.html. If you wish to comment on the Revised Draft PEA, please send comments via email to Regina Evans at regina.evans@noaa.gov.

FOR FURTHER INFORMATION CONTACT: Regina Evans, U.S. IOOS, Regions Budget & Policy Division, 1315 East West- Highway, SSMC3, 2nd Floor, Silver Spring, MD 20910; Phone 301-713-3290, ext. 110; Fax 301-713-3281; Email regina.evans@noaa.gov.

SUPPLEMENTARY INFORMATION: The Integrated Coastal and Ocean Observation System (ICOOS) Act of 2009 mandated the establishment of IOOS with NOAA as lead Federal agency. In April 2015, IOOS published a Notice of Availability for review and comment on a draft PEA of NOAA's IOOS Program observing activities regularly occurring in the environment as a direct result of cooperative agreements funded by this program. Technologies proposed for deployment and observational activities under IOOS are categorized into the following groups: Sensors and instrumentation; vessels (including personal watercraft) and sampling; AUVs, gliders, and drifters; moorings, marine stations, buoys, and fixed arrays; HF radar; sound navigation and ranging (sonar); and light detection and ranging (lidar). These observing activities support the core mission of IOOS: Systematic provision of readily accessible marine environmental data and data products in an interoperable, reliable, timely, and user-specified manner to end-users/customers to serve seven critical and expanding societal needs:

1. Improve predictions of climate change and weather and their effects on coastal communities and the nation;

2. Improve the safety and efficiency of maritime operations;

3. More effectively mitigate the effects of natural hazards;

4. Improve national and homeland security;

5. Reduce public health risks;

6. More effectively protect and restore healthy coastal ecosystems; and

7. Enable the sustained use of ocean and coastal resources.

Since the close of the public comment period on the initial draft PEA, IOOS has revised the document and seeks comment on the Revised Draft PEA. The PEA was revised to include a new alternative and to designate it as the proposed action (preferred alternative). The Proposed Action included in the public review draft anticipated full buildout of the proposed observing system program. However, budget constraints have made full buildout unobtainable at this time. IOOS developed the new alternative and changed the Proposed Action to reflect consideration of actual funding levels. Although IOOS remains committed to developing full system capabilities, the timeline for reaching those goals has been extended. The revised draft PEA reflects the anticipated program actions consistent with historic and anticipated future budget authorizations.

Statutory Authority: Integrated Coastal and Ocean Observation System Act of 2009 (33 U.S.C. 3601-3610).

Zdenka S. Willis,
Director, U.S. Integrated Ocean Observing System.

[FR Doc. 2016-04484 Filed 2-29-16; 8:45 am]

BILLING CODE P